DEPARTMENT OF TRANSPORTATION

Federal Motor Carrier Safety Administration

[Docket No. FMCSA-2014-0300]

Qualification of Drivers; Exemption Applications; Vision

AGENCY: Federal Motor Carrier Safety Administration (FMCSA), DOT.

ACTION: Notice of applications for exemptions, request for comments.

SUMMARY: FMCSA announces receipt of applications from 51 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before February 17, 2015. All comments will be investigated by FMCSA. The exemptions will be issued the day after the comment period closes.

ADDRESSES: You may submit comments bearing the Federal Docket Management System (FDMS) Docket No. FMCSA-2014-0300 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 51 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

David C. Berger

Mr. Berger, 52, has had refractive amblyopia in his left eye since childhood. The visual acuity in his right eye is 20/20, and in his left eye, 20/200. Following an examination in 2014, his optometrist stated, “I certify in my medical opinion that David Berger has sufficient vision to perform driving task required to operate a commercial vehicle.” Mr. Berger reported that he has driven straight trucks for 29 years, accumulating 165,300 miles. He holds a Class B CDL from Pennsylvania. His driving record for the last 3 years shows no crashes and no convictions for moving violations in a CMV.

Phillip J. Boes

Mr. Boes, 66, has had amblyopia in his right eye since childhood. The visual acuity in his right eye is 20/200, and in his left eye, 20/30. Following an examination in 2014, his ophthalmologist stated, “You have been actively driving as a commercial truck driver for years without difficulty and this particular visual issue has not changed over the years. You are qualified in my opinion to continue driving on a commercial basis.” Mr. Boes reported that he has driven tractor-trailer combinations for 36 years, accumulating 3.6 million miles. He holds a Class A CDL from Minnesota. His driving record for the last 3 years shows no crashes and no convictions for moving violations in a CMV.

Ronald Bostick

Mr. Bostick, 56, has a corneal scar in his right eye due to a traumatic incident in childhood. The visual acuity in his right eye is no light perception, and in his left eye, 20/20. Following an examination in 2014, his optometrist stated, “In my opinion, he does have sufficient vision required to perform driving tasks of a commercial vehicle.” Mr. Bostick reported that he has driven straight trucks for 13 years, accumulating 26,000 miles. He holds an operator's license from South Carolina. His driving record for the last 3 years shows no crashes and no convictions for moving violations in a CMV.

Raymond L. Bradshaw

Mr. Bradshaw, 53, has had a macular scar in his right eye since childhood. The visual acuity in his right eye is 20/200, and in his left eye, 20/30. Following an examination in 2014, his optometrist stated, “Px [sic] does have sufficient vision to operate a commercial vehicle.” Mr. Bradshaw reported that he has driven tractor-trailer combinations for 16 years, accumulating 1.92 million miles. He holds a Class A CDL from Texas. His driving record for the last 3 years shows no crashes and one conviction for a moving violation in a CMV; he exceeded the speed limit by 14 mph.

Ricky D. Cain

Mr. Cain, 54, has had an advanced cataract in his left eye since childhood. The visual acuity in his right eye is 20/20, and in his left eye, light perception. Following an examination in 2014, his optometrist stated, “Mr. Cain has excellent vision in his right eye and can operate a commercial vehicle and perform driving tasks.” Mr. Cain reported that he has driven straight trucks for 30 years, accumulating 15,000 miles, and tractor-trailer combinations for 30 years, accumulating 1.88 million miles. He holds a Class A CDL from New Mexico. His driving record for the last 3 years shows no crashes and no convictions for moving violations in a CMV.

Jeffrey L. Coachman

Mr. Coachman, 50, has had esotropia with amblyopia in his left eye since childhood. The visual acuity in his right eye is 20/20, and in his left eye, 20/200. Following an examination in 2014, his ophthalmologist stated, “He has had long standing Left Esotropia [sic] or a crossed eye with Amblyopia [sic] of 20/200 in his left eye . . . It is my opinion that he can safely drive and operate a commercial vehicle.” Mr. Coachman reported that he has driven straight trucks for 20 years, accumulating 500,000 miles, and tractor-trailer combinations for 22 years, accumulating 440,000 miles. He holds a Class AM CDL from New York. His driving record for the last 3 years shows one crash, to which he did contribute and for which he was cited, and no convictions for moving violations in a CMV.

Dewayne L. Cunningham

Mr. Cunningham, 48, has aphakia and corneal scars in his left eye due to a traumatic incident in 1988. The visual acuity in his right eye is 20/15, and in his left eye, hand motion. Following an examination in 2014, his optometrist stated, “Mr. Cunningham does have sufficient vision and can operate a Commercial Vehicle. [sic]” Mr. Cunningham reported that he has driven straight trucks for six years, accumulating 180,000 miles, and tractor-trailer combinations for 9 years, accumulating 495,000 miles. He holds a Class AM CDL from Illinois. His driving record for the last 3 years shows no crashes and no convictions for moving violations in a CMV.

Robert W. Cushing

Mr. Cushing, 60, has had atypical macular degeneration in his left eye since 2006. The visual acuity in his right eye is 20/20, and in his left eye, 20/60. Following an examination in 2014, his ophthalmologist stated, “His visual deficiency is stable, and it is being controlled with injections for Eylea on an as-needed basis. I believe that with continued care and, barring any unforeseen complications, Mr. Cushing should be able to perform driving tasks required to operate a commercial vehicle.” Mr. Cushing reported that he has driven straight trucks for 38 years, accumulating 950,000 miles. He holds a Class A CDL from New Hampshire. His driving record for the last 3 years shows no crashes and no convictions for moving violations in a CMV.

Joel K. Cutchin

Mr. Cutchin, 51, has a prosthetic right eye due to a traumatic incident in 1976. The visual acuity in his right eye is no light perception, and in his left eye, 20/20. Following an examination in 2014, his optometrist stated, “His vision is certainly good and stable enough to operate a commercial vehicle.” Mr. Cutchin reported that he has driven straight trucks for 23 years, accumulating 1.61 million miles. He holds an operator's license from Virginia. His driving record for the last 3 years shows one crash, to which he did not contribute and was not cited, and one conviction for a moving violation in a CMV; he was cited for following too closely.

Keith Dionisi

Mr. Dionisi, 49, has glaucoma in his right eye due to a traumatic incident in 2000. The visual acuity in his right eye is hand motion, and in his left eye, 20/20. Following an examination in 2014, his ophthalmologist stated, “In my medical opinion, I feel that Mr. Dionisi has sufficient visual acuity as well as visual field to continue to perform his driving tasks as a commercial driver.” Mr. Dionisi reported that he has driven tractor-trailer combinations for 24 years, accumulating 720,000 miles. He holds a Class CA CDL from Michigan. His driving record for the last 3 years shows no crashes and no convictions for moving violations in a CMV.

Wolfgang K. Faulkingham

Mr. Faulkingham, 53, has had enucleation secondary to angle closure glaucoma in his right eye since 1999. The visual acuity in his right eye is no light perception, and in his left eye, 20/20. Following an examination in 2014, his optometrist stated, “In my opinion, based on the excellent corrected visual acuity and full field of vision of the left eye, I feel that Mr. Faulkingham does have sufficient vision to perform the driving tasks required to operate a commercial vehicle.” Mr. Faulkingham reported that he has driven straight trucks for 16 years, accumulating 1.12 million miles, and tractor-trailer combinations for 21 years, accumulating 1.26 million miles. He holds a Class A CDL from Maine. His driving record for the last 3 years shows no crashes and no convictions for moving violations in a CMV.

John D. Fortino Jr.

Mr. Fortino, 54, has had strabismic amblyopia in his left eye since birth. The visual acuity in his right eye is 20/20, and in his left eye, 20/200. Following an examination in 2014, his optometrist stated, “In my medical opinion John has adequate visional [sic] function to safely perform the driving tasks to operate a commercial vehicle.” Mr. Fortino reported that he has driven straight trucks for 33 years, accumulating 1.98 million miles. He holds a Class BM CDL from New York. His driving record for the last 3 years shows 2 crashes, in which he contributed to and was cited for one, and did not contribute and was not cited for the other, and no convictions for moving violations in a CMV.

Ricky J. Franklin

Mr. Franklin, 65, has had a central retinal vein occlusion in his right eye since 2006. The visual acuity in his right eye is light perception, and in his left eye, 20/20. Following an examination in 2014, his optometrist stated, “Rick has adequate vision to operate a commercial vehicle.” Mr. Franklin reported that he has driven straight trucks for 48 years, accumulating 48,000 miles, and tractor-trailer combinations for 44 years, accumulating 22,000 miles. He holds a Class A CDL from Oregon. His driving record for the last 3 years shows no crashes and no convictions for moving violations in a CMV.

James P. Gapinski

Mr. Gapinski, 68, has had central retinal vein occlusion in his left eye since 2011. The visual acuity in his right eye is 20/20, and in his left eye, 20/200. Following an examination in 2014, his ophthalmologist stated, “I certify that the patient has sufficient vision to perform the driving tasks required to operate a commercial vehicle.” Mr. Gapinski reported that he has driven tractor-trailer combinations for 45 years, accumulating 6.3 million miles. He holds a Class A CDL from Minnesota. His driving record for the last 3 years shows no crashes and no convictions for moving violations in a CMV.

Harley D. Gray

Mr. Gray, 26, has had refractive amblyopia in his left eye since birth. The visual acuity in his right eye is 20/20, and in his left eye, 20/100. Following an examination in 2014, his optometrist stated, “Harley has refractive amblyopia in his left eye. My medical opinion is that Harley is well adapted to this condition and is capable of doing any task presented to him.” Mr. Gray reported that he has driven straight trucks for 2 years, accumulating 5,200 miles. He holds a Class BM CDL from Illinois. His driving record for the last 3 years shows no crashes and no convictions for moving violations in a CMV.

David N. Groff

Mr. Groff, 60, has complete loss of vision in his left eye due to a traumatic incident in childhood. The visual acuity in his right eye is 20/20, and in his left eye, no light perception. Following an examination in 2014, his optometrist stated, “Safe to operate Commercial Vehicle! Sufficient Vision demonstrated!” Mr. Groff reported that he has driven straight trucks for 34 years, accumulating 408,000 miles, and tractor-trailer combinations for 10 years, accumulating 180,000 miles. He holds a Class AM CDL from Pennsylvania. His driving record for the last 3 years shows no crashes and no convictions for moving violations in a CMV.

Robert J. Hansen

Mr. Hansen, 54, has a prosthetic left eye due to a traumatic incident in childhood. The visual acuity in his right eye is 20/20, and in his left eye, no light perception. Following an examination in 2014, his optometrist stated, “In my opinion, Robert Hansen has sufficient vision to perform all the driving tasks required to drive a commercial vehicle.” Mr. Hansen reported that he has driven straight trucks for 3 years, accumulating 24,000 miles. He holds an operator's license from Minnesota. His driving record for the last 3 years shows no crashes and no convictions for moving violations in a CMV.

Adrian Haro

Mr. Haro, 59, has had amblyopia in his right eye since childhood. The visual acuity in his right eye is 20/200, and in his left eye, 20/20. Following an examination in 2014, his ophthalmologist stated, “I believe Mr. Haro's vision is sufficient to perform all the tasks necessary to operate a commercial vehicle.” Mr. Haro reported that he has driven straight trucks for 5 years, accumulating 150,000 miles, and tractor-trailer combinations for 30 years, accumulating 2.55 million miles. He holds a Class A CDL from Colorado. His driving record for the last 3 years shows no crashes and one conviction for a moving violation in a CMV; he failed to yield to an emergency vehicle.

Kevin L. Himes

Mr. Himes, 56, has had esotropia and optic nerve hypoplasia in his left eye since birth. The visual acuity in his right eye is 20/20, and in his left eye, 20/300. Following an examination in 2014, his ophthalmologist stated, “In my medical opinion Kevin Himes has sufficient central and peripheral vision to operate a commercial vehicle.” Mr. Himes reported that he has driven straight trucks for 37 years, accumulating 1.11 million miles, and tractor-trailer combinations for 37 years, accumulating 37,000 miles. He holds a Class A CDL from Colorado. His driving record for the last 3 years shows no crashes and no convictions for moving violations in a CMV.

Ervin A. James, Jr.

Mr. James, 62, has had a retinal detachment in his right eye since 1970. The visual acuity in his right eye is light perception, and in his left eye, 20/20. Following an examination in 2014, his optometrist stated, “In my medical opinion, Mr. James has stable vision and is able to operate a commercial vehicle safely without complications or restrictions.” Mr. James reported that he has driven straight trucks for 33 years, accumulating 346,500 miles. He holds an operator's license from North Carolina. His driving record for the last 3 years shows no crashes and no convictions for moving violations in a CMV.

Jeffrey G. Kalla

Mr. Kalla, 49, has had refractive amblyopia in his left eye since birth. The visual acuity in his right eye is 20/20, and in his left eye, counting fingers. Following an examination in 2014, his ophthalmologist stated, “Amblyopia OS . . . also noted are mylenated nerve fibers OS . . . decreased central acuity and mildly decreased peripheral field . . . Unlikely to interfere with his ability to safely operate a commercial vehicle.” Mr. Kalla reported that he has driven buses for 9 years, accumulating 180,000 miles. He holds a Class C CDL from Nevada. His driving record for the last 3 years shows no crashes and no convictions for moving violations in a CMV.

Jackie Lee

Mr. Lee, 48, has had a macular hole in his left eye since 2010. The visual acuity in his right eye is 20/20, and in his left eye, 20/400. Following an examination in 2014, his optometrist stated, “In conclusion, it is my professional opinion that Mr. Lee has sufficient visual acuity and field of vision to continue operating commercial vehicle.” Mr. Lee reported that he has driven straight trucks for 4 years, accumulating 150,000 miles, and tractor-trailer combinations for 4 years, accumulating 140,000 miles. He holds a Class A CDL from Florida. His driving record for the last 3 years shows no crashes and no convictions for moving violations in a CMV.

Joseph J. Lewis

Mr. Lewis, 64, has had amblyopia in his right eye due to a traumatic incident in childhood. The visual acuity in his right eye is 20/200, and in his left eye, 20/25. Following an examination in 2014, his ophthalmologist stated, “The patient has sufficient vision to perform the driving tasks required to operate a commercial vehicle.” Mr. Lewis reported that he has driven straight trucks for 1 year, accumulating 30,000 miles, and tractor-trailer combinations for 12 years, accumulating 1.2 million miles. He holds a Class A CDL from Washington. His driving record for the last 3 years shows two crashes, to which he did not contribute and was not cited, and one conviction for a moving violation in a CMV; he disobeyed a road sign.

Keith A. Looney, Jr.

Mr. Looney, 27, has had amblyopia in his right eye since childhood. The visual acuity in his right eye is 20/60, and in his left eye, 20/20. Following an examination in 2014, his optometrist stated, “Based on today's findings, November 5, 2014, Keith Looney, JR. [sic] displayed sufficient visual ability to operate a commercial vehicle.” Mr. Looney reported that he has driven straight trucks for 6 years, accumulating 120,000 miles. He holds an operator's license from Arkansas. His driving record for the last 3 years shows no crashes and no convictions for moving violations in a CMV.

Van C. Mac

Mr. Mac, 38, has a retinal detachment in his left eye due to a traumatic incident in 1999. The visual acuity in his right eye is 20/20, and in his left eye, 20/200. Following an examination in 2014, his ophthalmologist stated, “His vision has been stable for the past 15 years and there is no contraindication to operating a commercial vehicle.” Mr. Mac reported that he has driven straight trucks for 15 years, accumulating 195,000 miles. He holds an operator's license from Illinois. His driving record for the last 3 years shows no crashes and no convictions for moving violations in a CMV.

Michael P. McCabe

Mr. McCabe, 56, has decreased vision and loss of central field in his left eye due to a traumatic incident in childhood. The visual acuity in his right eye is 20/20, and in his left eye, 20/400. Following an examination in 2014, his ophthalmologist stated, “I hereby certify that, in my medical opinion, Mr. Mc Cabe [sic] has sufficient vision to perform driving tasks required to operate a commercial vehicle.” Mr. McCabe reported that he has driven straight trucks for 6.5 years, accumulating 4,550 miles. He holds a chauffer's license from Michigan. His driving record for the last 3 years shows no crashes and no convictions for moving violations in a CMV.

Chris D. McCance

Mr. McCance, 50, has had myopic macular degeneration in his right eye since 2002. The visual acuity in his right eye is 20/100, and in his left eye, 20/20. Following an examination in 2014, his ophthalmologist stated, “It is my medical opinion that he has sufficient vision to drive a commercial vehicle.” Mr. McCance reported that he has driven straight trucks for 17 years, accumulating 425,000 miles. He holds a Class CM CDL from Illinois. His driving record for the last 3 years shows no crashes and no convictions for moving violations in a CMV.

Michael W. McCann

Mr. McCann, 54, has had amblyopia in his right eye since childhood. The visual acuity in his right eye is 20/400, and in his left eye, 20/20. Following an examination in 2014, his optometrist stated, “His present visual status is sufficient to perform driving tasks required to operate a commercial vehicle.” Mr. McCann reported that he has driven straight trucks for 19 years, accumulating 570,000 miles. He holds a Class M CDL from Virginia. His driving record for the last 3 years shows no crashes and no convictions for moving violations in a CMV.

O'Dell M. McKnight

Mr. McKnight, 77, has complete loss of vision in his right eye due to a traumatic incident in 1959. The visual acuity in his right eye is no light perception, and in his left eye, 20/40. Following an examination in 2014, his optometrist stated, “Certifies that in his/her medical opinion, you have sufficient vision to perform the driving tasks required to operate a commercial vehicle. OK.” Mr. McKnight reported that he has driven tractor-trailer combinations for 47 years, accumulating 2.1 million miles. He holds a Class A CDL from South Carolina. His driving record for the last 3 years shows no crashes and no convictions for moving violations in a CMV.

Anthony R. Melton

Mr. Melton, 44, has had amblyopia in his left eye since childhood. The visual acuity in his right eye is 20/20, and in his left eye, 20/70. Following an examination in 2014, his optometrist stated, “His visual deficiency is called amblyopia and has likely been present for many years . . . In my opinion Mr. Melton is capable of operating a commercial vehicle.” Mr. Melton reported that he has driven straight trucks for 2.5 years, accumulating 4,680 miles. He holds a Class D CDL from South Carolina. His driving record for the last 3 years shows no crashes and no convictions for moving violations in a CMV.

Preston S. Nehring

Mr. Nehring, 55, has had complete loss of vision due to a retinal vein occlusion in his left eye since 2010. The visual acuity in his right eye is 20/20, and in his left eye, light perception. Following an examination in 2014, his ophthalmologist stated, “In my medical opinion, he has sufficient vision to drive a commercial vehicle using his right eye.” Mr. Nehring reported that he has driven tractor-trailer combinations for 34 years, accumulating 5.3 million miles. He holds a Class A CDL from Florida. His driving record for the last 3 years shows no crashes and no convictions for moving violations in a CMV.

Dennis J. Oie

Mr. Oie, 55, has had exotropia in his right eye since childhood. The visual acuity in his right eye is 20/400, and in his left eye, 20/20. Following an examination in 2014, his optometrist stated, “In my medical opinion, Dennis Oie has sufficient vision to perform the driving tasks required to operate a commercial vehicle.” Mr. Oie reported that he has driven straight trucks for 30 years, accumulating 1.5 million miles. He holds a Class A CDL from Minnesota. His driving record for the last 3 years shows no crashes and no convictions for moving violations in a CMV.

Orlan R. Ott

Mr. Ott, 71, has had ischemic optic neuropathy in his left eye since 1995. The visual acuity in his right eye is 20/20, and in his left eye, 20/50. Following an examination in 2014, his optometrist stated, “In my opinion Mr. Ott has sufficient stable vision to operate a commercial vehicle.” Mr. Ott reported that he has driven straight trucks for 50 years, accumulating 250,000 miles, and tractor-trailer combinations for 50 years, accumulating 375,000 miles. He holds a Class A CDL from Iowa. His driving record for the last 3 years shows no crashes and no convictions for moving violations in a CMV.

Rodney W. Phelps

Mr. Phelps, 49, has had refractive amblyopia in his right eye since childhood. The visual acuity in his right eye is 20/400, and in his left eye, 20/20. Following an examination in 2014, his optometrist stated, “In my medical opinion, Mr. Phelp's [sic] has sufficient vision to perform the driving tasks required to operate a commercial vehicle.” Mr. Phelps reported that he has driven straight trucks for 22 years, accumulating 422,400 miles. He holds an operator's license from Kentucky. His driving record for the last 3 years shows no crashes and no convictions for moving violations in a CMV.

Leonardo Polonski

Mr. Polonski, 61, has had high myopia and amblyopia in his right eye since birth. The visual acuity in his right eye is hand motion, and in his left eye, 20/20. Following an examination in 2014, his ophthalmologist stated, “I certify that in my medical opinion, as an ophthalmologist and as the main provider of his eye care for the past 15 years, that Mr. Polonski has sufficient vision to perform the driving tasks required to operate a commercial vehicle.” Mr. Polonski reported that he has driven straight trucks for 43 years, accumulating 946,000 miles. He holds a Class B CDL from Massachusetts. His driving record for the last 3 years shows no crashes and no convictions for moving violations in a CMV.

Don C. Powell, Jr.

Mr. Powell, 59, has had strabismic amblyopia in his left eye since childhood. The visual acuity in his right eye is 20/20, and in his left eye, 20/400. Following an examination in 2014, his ophthalmologist stated, “Mr. Powell has sufficient vision to perform the driving requirements to operate a commercial vehicle.” Mr. Powell reported that he has driven buses for 3 years, accumulating 126,000 miles. He holds a Class B CDL from New York. His driving record for the last 3 years shows no crashes and no convictions for moving violations in a CMV.

Luis A. Ramos

Mr. Ramos, 53, has had strabismic amblyopia and exotropia in his left eye since childhood. The visual acuity in his right eye is 20/20, and in his left eye, 20/200. Following an examination in 2014, his optometrist stated, “The visual deficiency that the patient has in the left eye is stable, and it is in my professional opinion that this patient would be able to perform the functions of commercial vehicle operation.” Mr. Ramos reported that he has driven straight trucks for 30 years, accumulating 1.2 million miles. He holds a Class A CDL from Florida. His driving record for the last 3 years shows no crashes and one conviction for a moving violation in a CMV; he exceeded the speed limit by 15 mph.

Kevin C. Rich

Mr. Rich, 60, has had retinal vascular occlusion in his right eye since 2009. The visual acuity in his right eye is 20/200, and in his left eye, 20/15. Following an examination in 2014, his optometrist stated, “It is my professional opinion that he can safely operate a commercial vehicle with his current glasses.” Mr. Rich reported that he has driven tractor-trailer combinations for 25 years, accumulating 937,500 miles. He holds a Class A CDL from North Carolina. His driving record for the last 3 years shows no crashes and no convictions for moving violations in a CMV.

Ronald D. Schwab

Mr. Schwab, 63, has had amblyopia in his right eye since childhood. The visual acuity in his right eye is 20/150, and in his left eye, 20/20. Following an examination in 2014, his optometrist stated, “In my opinion Ronald has sufficient vision to operate a commercial vehicle.” Mr. Schwab reported that he has driven straight trucks for 10 years, accumulating 300,000 miles, and tractor-trailer combinations for 30 years, accumulating 2.48 million miles. He holds a Class A CDL from Minnesota. His driving record for the last 3 years shows no crashes and one conviction for a moving violation in a CMV; he exceeded the speed limit by 15 mph.

Gary W. Shelton, Jr.

Mr. Shelton, 41, has had a full thickness macular hole in his left eye since 1991. The visual acuity in his right eye is 20/20, and in his left eye, 20/100. Following an examination in 2014, his ophthalmologist stated, “Yes in my medical opinion Mr. Shelton has sufficient vision to drive a commercial vehicle.” Mr. Shelton reported that he has driven straight trucks for 22 years, accumulating 110,000 miles, and tractor-trailer combinations for one year, accumulating 7,500 miles. He holds a Class A CDL from Florida. His driving record for the last 3 years shows no crashes and no convictions for moving violations in a CMV.

Gerardo Silva

Mr. Silva, 35, has had refractive amblyopia in his left eye since childhood. The visual acuity in his right eye is 20/20, and in his left eye, 20/100. Following an examination in 2014, his optometrist stated, “It is in my professional opinion that Gerardo Silva meets requirements to drive a commercial vehicle equipped with side view mirrors on both right and left sides.” Mr. Silva reported that he has driven straight trucks for 14 years, accumulating 18,200 miles. He holds an operator's license from Illinois. His driving record for the last 3 years shows no crashes and no convictions for moving violations in a CMV.

James A. Spittal

Mr. Spittal, 57, has had ophthalmic artery occluded by calcium embolus in his right eye since 1991. The visual acuity in his right eye is no light perception, and in his left eye, 20/20. Following an examination in 2014, his optometrist stated, “I certify that Jim Spittal has sufficient vision to perform the driving tasks required to operate a commercial vehicle.” Mr. Spittal reported that he has driven straight trucks for 12 years, accumulating 201,600 miles, and tractor-trailer combinations for 9 years, accumulating 900,000 miles. He holds a Class A CDL from Oregon. His driving record for the last 3 years shows no crashes and no convictions for moving violations in a CMV.

Paul J. Stewart

Mr. Stewart, 40, has had amblyopia in his left eye since childhood. The visual acuity in his right eye is 20/20, and in his left eye, 20/200. Following an examination in 2014, his optometrist stated, “In my medical opinion, Mr. Stewart has sufficient vision and visual field capabilities to perform the driving tasks required to operate a commercial vehicle.” Mr. Stewart reported that he has driven tractor-trailer combinations for 17 years, accumulating 467,500 miles. He holds a Class A CDL from Colorado. His driving record for the last 3 years shows no crashes and no convictions for moving violations in a CMV.

David A. Stinelli

Mr. Stinelli, 57, has complete loss of vision in his right eye due to a traumatic incident in childhood. The visual acuity in his right eye is 20/200, and in his left eye, 20/20. Following an examination in 2014, his optometrist stated, “In the state of Pennsylvania the patient exceeds the minimal visual acuity required to operate a motor vehicle. Also, his peripheral vision exceeds 120 degrees in the horizontal meridian. It is my opinion that David can operate a commercial vehicle.” Mr. Stinelli reported that he has driven straight trucks for 40 years, accumulating two million miles. He holds a Class B CDL from Pennsylvania. His driving record for the last 3 years shows no crashes and no convictions for moving violations in a CMV.

Ingrid V. Taylor

Ms. Taylor, 49, has had optic nerve damage due to glaucoma in her left eye since 2009. The visual acuity in her right eye is 20/20, and in her left eye, 20/50. Following an examination in 2014, her ophthalmologist stated, “It is my medical opinion that Ms. Taylor has sufficient vision to operate a commercial vehicle.” Ms. Taylor reported that she has driven straight trucks for 2 years, accumulating 11,000 miles, and tractor-trailer combinations for 14 years, accumulating 1.33 million miles. She holds a Class CA CDL from Michigan. Her driving record for the last 3 years shows one crash, to which she did contribute, and no convictions for moving violations in a CMV.

Roger A. Thein, Jr.

Mr. Thein, 47, has had amblyopia in his right eye since birth. The visual acuity in his right eye is 20/70, and in his left eye, 20/20. Following an examination in 2014, his optometrist stated, “I have no concerns of Roger Thein's ability to safely operate a commercial motor vehicle. His vision is stable and has been unchanged his entire life. It is my medical opinion that Roger Thein is safe to drive a commercial motor vehicle.” Mr. Thein reported that he has driven straight trucks for 13 years, accumulating 78,000 miles. He holds an operator's license from Wisconsin. His driving record for the last 3 years shows no crashes and no convictions for moving violations in a CMV.

Russell E. Ward

Mr. Ward, 57, has had strabismus amblyopia in his right eye since birth. The visual acuity in his right eye is 20/400, and in his left eye, 20/20. Following an examination in 2014, his optometrist stated, “Patient Russell Ward has adequate vision to drive a 12 ft [sic] box truck.” Mr. Ward reported that he has driven straight trucks for 22 years, accumulating 528,000 miles. He holds an operator's license from New Hampshire. His driving record for the last 3 years shows no crashes and no convictions for moving violations in a CMV.

Bobby M. Warren

Mr. Warren, 58, has had corneal scarring in his left eye due to a traumatic incident in 1979. The visual acuity in his right eye is 20/20, and in his left eye, light perception. Following an examination in 2014, his optometrist stated, “Based upon my findings and medical expertise, I . . . hereby certify Bobby Warren to be visually able to safely operate a commercial motor vehicle.” Mr. Warren reported that he has driven straight trucks for 30 years, accumulating 600,000 miles. He holds an operator's license from Kentucky. His driving record for the last 3 years shows no crashes and no convictions for moving violations in a CMV.

Steven E. Williams

Mr. Williams, 44, has had optic nerve damage in his right eye due to a traumatic incident in 1991. The visual acuity in his right eye is no light perception, and in his left eye, 20/20. Following an examination in 2014, his ophthalmologist stated, “His condition is stable and he has sufficient vision to perform the driving task required to operate a commercial vehicle.” Mr. Williams reported that he has driven straight trucks for 6.5 years, accumulating 406,250 miles, and tractor-trailer combinations for 14 years, accumulating 945,000 miles. He holds a Class AM CDL from Georgia. His driving record for the last 3 years shows no crashes and no convictions for moving violations in a CMV.

Rex A. Wright

Mr. Wright, 50, has had amblyopia in his left eye since childhood. The visual acuity in his right eye is 20/20, and in his left eye, 20/80. Following an examination in 2014, his optometrist stated, “It is my impression that his amblyopia would not interfere with Mr. Wright's driving at this time and I feel that his commercial truck driver's license should be renewed.” Mr. Wright reported that he has driven straight trucks for 22 years, accumulating 52,800 miles. He holds a Class B CDL from Illinois. His driving record for the last 3 years shows no crashes and no convictions for moving violations in a CMV.

Vantha Yeam

Mr. Yeam, 46, has a dense cataract in his right eye due to a traumatic incident in 1990. The visual acuity in his right eye is light perception, and in his left eye, 20/30. Following an examination in 2014, his optometrist stated, “Given these results, in my opinion he has sufficient vision and visual fields to drive a commercial vehicle, however it is up to the Department of Transportation to make the final decision.” Mr. Yeam reported that he has driven straight trucks for 10 years, accumulating 120,000 miles, and tractor-trailer combinations for 4 years, accumulating 100,000 miles. He holds a Class AM CDL from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0300 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number.

FMCSA-2014-0300 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: January 2, 2015.
Larry W. Minor,
Associate Administrator for Policy.

[FR Doc. 2015-00602 Filed 1-15-15; 8:45 am]

BILLING CODE 4910-EX-P